DEPARTMENT OF LABOR

Order of Succession

AGENCY: Office of Inspector General (OIG), Labor.

ACTION: Notice.

SUMMARY: Pursuant to the Federal Vacancies Reform Act of 1998 and the Inspector General Act of 1978, as amended, U.S. Department of Labor (DOL) Inspector General (IG) Larry D. Turner is updating and publishing the succession order and delegations of authorities, which provides guidance on the transfer of functions and duties of the IG, as well as other Office of Inspector General (OIG) central management functions, regardless of what events necessitate such transfer. This revision supersedes any prior DOL OIG notice of succession order.

FOR FURTHER INFORMATION CONTACT: Delores “Dee” Thompson, Counsel to the Inspector General, Office of Inspector General, Room S-5502, 200 Constitution Avenue NW, Washington, DC 20210, 202-693-5107, OLS-Public@oig.dol.gov.

SUPPLEMENTARY INFORMATION: DOL OIG is issuing this notice to publish an updated line of succession and delegations of authority within DOL OIG. Pursuant to the Federal Vacancies Reform Act of 1998 (5 U.S.C. 3345-3349d) and the Inspector General Act of 1978, as amended (5 U.S.C. app. 3), the IG has designated the detailed sequence of succession as follows:

I. During any period in which the DOL IG, dies, resigns, or is otherwise unable to perform the functions and duties of the office, and unless the President designates another officer to perform the functions and duties of the position, the Deputy IG, as the designated first assistant to the IG, shall temporarily perform the IG's functions and duties in an acting capacity, pursuant to and subject to the Federal Vacancies Reform Act (5 U.S.C. 3345-3349d). However, the Deputy IG does not become the acting IG if, during the 365-day period preceding the IG's death, resignation, or the beginning of the period in which the IG is unable to serve, the Deputy IG served as Deputy IG for less than 90 days and the President has nominated the Deputy IG to the IG position. In the absence of the IG and Deputy IG, the officials designated below, in the order listed, shall become the acting Deputy IG and so shall temporarily perform the delegable functions and duties of the IG. This order may be changed by a delegation in writing from the IG, or by the Deputy IG while acting in the absence of the IG:

1. Assistant IG for Investigations (AIG/I);

2. Assistant IG for Audit (AIG/A);

3. Counsel to the IG;

4. Assistant IG for Management and Policy (AIG/MP)

5. An official serving in a Senior Executive Service (SES) or Senior Level (SL) permanent position in DOL OIG who has the longest tenure with DOL OIG.

6. A GS-15 Special Agent-in-Charge or Audit Director in a permanent position in DOL OIG who has the longest tenure with DOL OIG.

II. For purposes of this order of succession, a designated official is a person holding a permanent appointment to the position. Persons filling positions in an acting capacity do not substitute for officials holding a permanent appointment to a position. If a position is vacant or an official occupying the position on a permanent basis is absent or unavailable, authority passes to the next available official occupying a position in the order of succession.

III. This delegation is not in derogation of any authority residing in the above officials relating to the operation of their respective programs, nor does it affect the validity of any delegations currently in force and effect and not specifically cited as revoked or revised herein.

IV. The authorities delegated herein may not be re-delegated.

Authority: 5 U.S.C. 3345-3349d; 5 U.S.C. app. 3.

Dated: February 16, 2022.
Larry D. Turner,
Inspector General.

[FR Doc. 2022-03848 Filed 2-23-22; 8:45 am]

BILLING CODE 4510-HV-P